ENVIRONMENTAL PROTECTION AGENCY

[FRL-9121-6]

Office of Research and Development; Ambient Air Monitoring Reference and Equivalent Methods: Designation of One New Equivalent Method

AGENCY: Environmental Protection Agency.

ACTION: Notice of the designation of one new equivalent method for monitoring ambient air quality.

SUMMARY: Notice is hereby given that the Environmental Protection Agency (EPA) has designated, in accordance with 40 CFR part 53, one new equivalent method for measuring concentrations of lead (Pb) in total suspended particulate matter (TSP) in the ambient air.

FOR FURTHER INFORMATION CONTACT: Surender Kaushik, Human Exposure and Atmospheric Sciences Division (MD-D205-03), National Exposure Research Laboratory, U.S. EPA, Research Triangle Park, North Carolina 27711. Phone: (919) 541-5691, email: Kaushik.Surender@epa.gov.

SUPPLEMENTARY INFORMATION: In accordance with regulations at 40 CFR part 53, the EPA evaluates various methods for monitoring the concentrations of those ambient air pollutants for which EPA has established National Ambient Air Quality Standards (NAAQSs) as set forth in 40 CFR part 50. Monitoring methods that are determined to meet specific requirements for adequacy are designated by the EPA as either reference methods or equivalent methods (as applicable), thereby permitting their use under 40 CFR part 58 by States and other agencies for determining compliance with the NAAQSs.

The EPA hereby announces the designation of one new equivalent method for measuring lead (Pb) in total suspended particulate matter (TSP) in the ambient air. This designation is made under the provisions of 40 CFR part 53, as amended on November 12, 2008 (73 FR 67057-67059).

The method is identified as follows:

EQL-0310-189, “Procedure for Determination of Lead in Ambient Air TSP by Hot Plate Acid Extraction and ICP-MS Analysis.”

In this method, total suspended particulate matter (TSP) is collected according to 40 CFR Appendix B to part 50, EPA Reference Method for the Determination of Suspended Particulate Matter in the Atmosphere (High-Volume Method), extracted on a hot plate with 3M HNO3 according to 40 CFR Appendix G to part 50, EPA Reference Method for the Determination of Lead in Suspended Particulate Matter Collected from Ambient Air, and analyzed by Inductively Coupled Plasma-Mass Spectrometry (ICP-MS) based on EPA SW-846 Method 6020A.

The application for an equivalent method determination for this method was submitted by Inter-Mountain Laboratories, Incorporated, 1673 Terra Avenue, Sheridan, WY 82801 and was received by the Office of Research and Development on December 16, 2009.

The analytical procedure of this method has been tested in accordance with the applicable test procedures specified in 40 CFR part 53, as amended on November 12, 2008. After reviewing the results of those tests and other information submitted in the application, EPA has determined, in accordance with part 53, that this method should be designated as an equivalent method for lead. The information provided by the applicant will be kept on file, either at EPA's National Exposure Research Laboratory, Research Triangle Park, North Carolina 27711 or in an approved archive storage facility, and will be available for inspection (with advance notice) to the extent consistent with 40 CFR part 2 (EPA's regulations implementing the Freedom of Information Act).

As a designated equivalent method, this method is acceptable for use by states and other air monitoring agencies under the requirements of 40 CFR part 58, Ambient Air Quality Surveillance. For such purposes, the method must be used in strict accordance with the complete operating procedures (SOPs) associated with the method and subject to any specifications and limitations specified in the procedure.

Use of the method should also be in general accordance with the guidance and recommendations of applicable sections of the “Quality Assurance Handbook for Air Pollution Measurement Systems, Volume I,” EPA/600/R-94/038a and “Quality Assurance Handbook for Air Pollution Measurement Systems, Volume II, Ambient Air Quality Monitoring Program” EPA-454/B-08-003, December, 2008 (available at http://www.epa.gov/ttn/amtic/qabook.html). Provisions concerning modification of such methods by users are specified under section 2.8 (Modifications of Methods by Users) of Appendix C to 40 CFR part 58.

Repeated noncompliance with the method procedure/SOP should be reported to: Director, Human Exposure and Atmospheric Sciences Division (MD-E205-01), National Exposure Research Laboratory, U.S. Environmental Protection Agency, Research Triangle Park, North Carolina 27711.

Designation of this new equivalent method is intended to assist the States in establishing and operating their air quality surveillance systems under 40 CFR part 58. Questions concerning the technical aspects of the method should be directed to the applicant.

Jewel F. Morris,
Acting Director, National Exposure Research Laboratory.

[FR Doc. 2010-4547 Filed 3-3-10; 8:45 am]

BILLING CODE 6560-50-P